DEPARTMENT OF DEFENSE

Office of the Secretary

Privacy Act of 1974; System of Records

AGENCY: Office of the Secretary, DoD.

ACTION: Notice to Add a System of Records.

SUMMARY: The Office of the Secretary proposes to add a system of records notice to its existing inventory of record systems subject to the Privacy Act of 1974, (5 U.S.C. 552a), as amended.

DATES: This proposed action will be effective without further notice on May 4, 2000, unless comments are received which result in a contrary determination.

ADDRESSES: Send comments to OSD Privacy Act Coordinator, Records Section, Directives and Records Division, Washington Headquarter Services, Correspondence and Directives, 1155 Defense Pentagon, Washington, DC 20301-1155.

FOR FURTHER INFORMATION CONTACT: Mr. David Bosworth at (703) 588-0159.

SUPPLEMENTARY INFORMATION: The Office of the Secretary systems of records notices subject to the Privacy Act of 1974, (5 U.S.C. 552a), as amended, have been published in the Federal Register and are available from the address above.

The proposed system report, as required by 5 U.S.C. 552a(r) of the Privacy Act of 1974, as amended, was submitted on March 23, 2000, to the House Committee on Government Reform and Oversight, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: March 29, 2000.
L.M. Bynum,
Alternate OSD Federal Register Liaison Officer, Department of Defense.

DWHS P45

System name:

OSD/Joint Staff Voluntary Leave Transfer Program Records.

System location:

Washington Headquarters Services, Directorate for Personnel and Security, Labor Management and Employee Relations, 1777 North Kent Street, Arlington, VA 22209-2164.

Categories of individuals covered by the system:

OSD and Joint Staff individuals who have volunteered to participate in the leave transfer program as a donor and OSD or Joint Staff individuals who have exhausted or are likely to exhaust the balance of their leave due to a medical emergency and are requesting leave donations from volunteers.

Categories of records in the system:

Leave Recipient Applications (DD Form 2539 or similar) which contain the individual's name, Voluntary Leave Transfer Recipient Number, organization, office telephone number, Social Security Number, position title, grade, pay level, leave balances, number of hours requested, brief description of the medical or personal hardship which qualifies the individual for inclusion in the program, the status of that hardship, and a statement that selected data elements may be used in soliciting donations.

The file may also contain medical or physician certifications and agency approvals or denials.

Leave Donor Applications (DD Form 2538 or similar) which contain the individual's name, organization, office telephone number, Social Security Number, position title, grade, pay level, leave balances, number of hours donated and the name of the designated recipient or Leave Transfer Recipient Number.

Authority for maintenance of the system:

5 U.S.C. 6331 et seq. (Leave); 5 CFR Part 630; and OSD Administrative Instruction 98, “Voluntary Leave Transfer Program”; and E.O. 9397 (SSN).

Purpose(s):

The file is used in managing the OSD/Joint Staff Voluntary Leave Transfer program. A Voluntary Leave Transfer Recipient Number is assigned to each verified recipient. A brief hardship description with the prospective recipient's assigned number is published internally for solicitation purposes. If insufficient donations of leave are offered by the recipient's immediate organization, solicitation is extended beyond that immediate organization until sufficient leave donations to cover the recipient's uncovered leave is reached. Social Security Numbers of donors and recipients are required to effectuate the transfer of leave from the donor's account to the recipient's account.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the Department of Labor in connection with a claim filed by an employee for compensation due to a job-connected injury or illness.

To the personnel and pay offices of the Federal agency involved to effectuate the leave transfer where leave donor and leave recipient are employed by different Federal agencies.

The ‘Blanket Routine Uses’ set forth at the beginning of OSD's compilation of systems of records notices apply to this record system.

Policies and practices for storing, retrieving, accessing, retaining, and disposing of records in the system:

Storage:

Manual records are stored in folders in file cabinets and electronic records are stored on magnetic media.

Retrievability:

Records are retrieved by name, Social Security Number or Voluntary Leave Transfer Recipient Number.

Safeguards:

Records are accessed by custodian of the records or by persons responsible for servicing the record system in performance of their official duties. Records are stored in controlled-access office space that is locked during non-business hours.

Retention and Disposal:

Records are destroyed one year after the end of the year in which the file is closed.

System manager(s) and address:

Washington Headquarters Services, Directorate for Personnel and Security, ATTN: Assistant Director, Labor Management and Employee Relations, 1777 North Kent Street, Arlington, VA 22209-2164.

Notification procedures:

Individuals seeking to determine whether this system of records contains information about themselves should address written inquiries to Washington Headquarters Services, Directorate for Personnel and Security, Labor Management and Employee Relations, 1777 North Kent Street, Arlington, VA 22209-2164.

Individual should provide full name and Social Security Number.

Record access procedures:

Individuals seeking access to records about themselves contained in this system of records should address written inquiries to Washington Headquarters Services, Directorate for Personnel and Security, Labor Management and Employee Relations, 1777 North Kent Street, Arlington, VA 22209-2164.

Individual should provide full name and Social Security Number.

Contesting record procedures:

The OSD rules for accessing records, for contesting contents and appealing initial agency determinations are published in OSD Administrative Instruction 81; 32 CFR part 311; or may be obtained from the system manager.

Record source categories:

Information is provided primarily by the record subject; however, some data may be obtained from personnel and leave records.

Exemptions claimed for the system:

None.

[FR Doc. 00-8182 Filed 4-3-00; 8:45 am]

BILLING CODE 5001-10-F